NUCLEAR REGULATORY COMMISSION

[NRC-2014-0114]

In the Matter of All Operating Reactor Licensees

AGENCY: Nuclear Regulatory Commission.

ACTION: Revised Director's decision under 10 CFR 2.206; issuance.

SUMMARY: The U.S. Nuclear Regulatory Commission (NRC) has issued a revised director's decision with regard to a petition dated July 27, 2011, filed by Mr. Geoff Fettus, Senior Project Attorney for the Natural Resources Defense Council (the petitioner), requesting that the NRC take action with regard to all operating reactor licensees. The petitioner's request, the director's decision, the letter to the petitioner, and the letter to the licensees (which includes a listing of all operating reactor licensees affected by this revised director's decision) are discussed in the SUPPLEMENTARY INFORMATION section of this document.

ADDRESSES: Please refer to Docket ID NRC-2014-0114 when contacting the NRC about the availability of information regarding this document. You may obtain publicly-available information related to this document using any of the following methods:

• Federal Rulemaking Web site: Go to http://www.regulations.gov and search for NRC-2014-0114. Address questions about NRC dockets to Carol Gallagher; telephone: 301-287-3422; email: Carol.Gallagher@nrc.gov.

• NRC's Agency wide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Proposed Director's Decision and the Letter to the Petitioner are available in ADAMS under Accession Nos. ML13282A373 and ML13282A358. The Letter to the Licensees, which includes a listing of all operating reactor licensees affected by this proposed director's decision, is available in ADAMS under Accession No. ML13282A372.

• NRC's PDR: You may examine and purchase copies of public documents at the NRC's PDR, Room O1-F21, One White Flint North, 11555 Rockville Pike, Rockville, Maryland 20852.

SUPPLEMENTARY INFORMATION: Notice is hereby given that the Deputy Director, Office of Nuclear Reactor Regulation, has issued a revision to a director's decision (ADAMS Accession No. ML14098A166) dated May 6, 2014, on a petition filed by the petitioner on July 27, 2011, (ADAMS Accession No. ML11216A085). A listing of all operating reactor licensees affected by this director's decision is available in the Letter to Licensees, available in ADAMS under Accession No. ML13282A372.

The petitioner requested that the NRC order licensees to comply with 12 specific recommendations in the NRC Near-Term Task Force (NTTF) Report, “Recommendations for Enhancing Reactor Safety in the 21st Century,” issued July 12, 2011, (ADAMS Accession No. ML111861807). The petitioner cited the NTTF Report as the rationale for and basis of the petition.

The NRC sent a copy of the proposed director's decision to the petitioner and the licensees for comment on March 11, 2014. The petitioner and the licensees were asked to provide comments within 15 days on any part of the proposed director's decision that was considered to be erroneous or any issues in the petition that were not addressed. The staff did not receive any comments on the proposed director's decision.

The NRC issued a director's decision (ADAMS Accession No. ML14098A166) on May 6, 2014. Subsequently, the NRC found two revisions necessary. The NRC's response to the petitioner's Request 7 is corrected to reference the final regulatory basis issued on October 1, 2013 (ML13101A344), instead of the draft regulatory basis as originally stated. The NRC's response to the part of Request 8 stating that licensees should be required to “maintain ERDS [Emergency Response Data System] capability throughout the accident” is corrected to state that the request will be addressed by an advance notice of proposed rulemaking (ANPR).

As stated in the initial director's decision, the Deputy Director of the Office of Nuclear Reactor Regulation has determined that the petitioner's request to order licensees to comply with 12 specific recommendations in the NRC NTTF Report, “Recommendations for Enhancing Reactor Safety in the 21st Century,” issued July 12, 2011, was resolved through the issuance of orders, written statements in accordance with Title 10 of the Code of Federal Regulations (10 CFR), rulemaking, and the Emergency Response Data System initiative. The reasons for this decision are explained in this revised director's decision (DD-14-02), which the NRC is issuing pursuant to 10 CFR 2.206 of the Commission's regulations.

The NRC will file a copy of the revised director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 17th day June of 2014.
For the Nuclear Regulatory Commission.
Jennifer L. Uhle,
Deputy Director for Reactor Safety Programs, Office of Nuclear Reactor Regulation.

[FR Doc. 2014-15006 Filed 6-25-14; 8:45 am]

BILLING CODE 7590-01-P